DEPARTMENT OF STATE

[Public Notice: 6821]

60-Day Notice of Proposed Information Collection: DS-4100, Iran Program Grants Vetting, Information Collection 1405-0176

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Iran Program Grants

• OMB Control Number: 1405-0176

• Type of Request: Extension of a Currently Approved Collection

• Originating Office: Office of Iranian Affairs, Bureau of Near Eastern Affairs (NEA/IR)

• Form Number: DS-4100

• Respondents: Potential grantees and participants for Iran programs

• Estimated Number of Respondents: 100

• Estimated Number of Responses: 200

• Average Hours Per Response: 1

• Total Estimated Burden: 200

• Frequency: On occasion

• Obligation to Respond: Required to Obtain

DATE(S): The Department will accept comments from the public up to 60 days from January 14, 2010.

FOR FURTHER INFORMATION CONTACT: Direct requests for additional information regarding the collection listed in this notice, including requests for copies of the proposed information collection and supporting documents, to Danika Walters, Bureau of Near Eastern Affairs, U.S. Department of State, Washington, DC 20520, who may be reached on 202-647-1347, or via e-mail at WaltersDL@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The State Department has made the awarding of grants a key component of its Iran policy. As a condition of licensing these activities, the Office of Foreign Assets Control (OFAC) mandates that the Department conduct a vetting of potential Iran programs grantees and sub-grantees for counter-terrorism purposes. To conduct this vetting the Department envisions collecting information from grantees and sub-grantees regarding the identity and background of their key employees, board of directors, and program participants.

Methodology

We will collect this information either through fax or electronic submission.

Additional Information

Provide background or other information as applicable or useful. This is optional.

Dated: January 5, 2010.
Sara Horner,
Office Director, Office of Iranian Affairs, Bureau of Near Eastern Affairs, Department of State.

[FR Doc. 2010-599 Filed 1-13-10; 8:45 am]

BILLING CODE 4710-31-P